LEGAL SERVICES CORPORATION

Sunshine Act Meetings

TIME AND DATE: The Legal Services Corporation Board of Directors will meet virtually on November 20, 2024. The meeting will commence at 1:00 p.m. Eastern Time and will continue until the conclusion of the Board's agenda.

PLACE:

Public Notice of Virtual Meeting: LSC will conduct the November 20, 2024, meeting via Zoom videoconference.

Public Observation: Unless otherwise noted herein, the LSC Board of Directors meeting will be open to public observation via Zoom. Members of the public who wish to participate remotely in the public proceedings may do so by following the directions provided below.

Directions for Open Session

November 20, 2024

• To join the Zoom meeting by computer, please use this link.

○ https://lsc-gov.zoom.us/j/83018180144?pwd=4oSGWCnDpaHLEW3xauk6baL0AibPur.1&from=addon

○ Meeting ID: 830 1818 0144

○ Passcode: 112024

• To join the Zoom meeting with one tap from your mobile phone, please click dial:

○ +13017158592,,81526341918# US

○ +13126266799,,81526341918# US

• To join the Zoom meeting by telephone, please dial one of the following numbers:

○ +1 301 715 8592 (Washington, DC)

○ +1 646 876 9923 (New York)

○ +1 312 626 6799 (Chicago)

○ +1 346 248 7799 (Houston)

○ +1 669 900 6833 (San Jose)

○ +1 408 638 0968 (San Jose)

○ +1 253 215 8782 (Tacoma)

○ Meeting ID: 830 1818 0144

○ Passcode: 112024

Once connected to Zoom, please immediately mute your computer or telephone. Members of the public are asked to keep their computers or telephones muted to eliminate background noise. To avoid disrupting the meetings, please refrain from placing the call on hold if doing so will trigger recorded music or other sound.

From time to time, the Board Chair may solicit comments from the public. To participate in the meeting during public comment, use the `raise your hand' or `chat' functions in Zoom and wait to be recognized by the Chair before stating your questions and/or comments.

STATUS: Open, except that, upon a vote of the Board of Directors, a portion of the meeting may be closed to the public to receive a briefing from LSC Management.

MATTERS TO BE CONSIDERED:

Portions Open to the Public:

1. Approval of Agenda

2. Consider and Act on the Board of Directors' Transmittal Letter to Accompany the Inspector General's Semiannual Report to Congress for the Period of April 1 through September 30, 2024

3. Public Comment

4. Consider and Act on Other Business

5. Consider and Act on Whether to Authorize a Closed Session of the Board to Address Items Listed Below

Portions Closed to the Public:

6. Management Briefing

7. Consider and Act on Adjournment of Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

(Authority: 5 U.S.C. 552b.)

Dated: November 11, 2024.
Stefanie Davis,
Deputy General Counsel, Legal Services Corporation.

[FR Doc. 2024-26637 Filed 11-12-24; 11:15 am]

BILLING CODE 7050-01-P